ENVIRONMENTAL PROTECTION AGENCY

[FRL-7154-9]

Notice of Availability and Request for Public Comment: Proposed National Pollutant Discharge Elimination System (NPDES) General Permit for Discharges of Storm Water Discharges From Construction Activities in Indian Country Within the State of Wisconsin

AGENCY: Environmental Protection Agency, Region 5 (EPA).

ACTION: Extension of public comment period.

SUMMARY: Today's notice announces an extension of the public comment period regarding EPA's proposed National Pollutant Discharge Elimination System (NPDES) general permit for storm water discharges from construction activities in Indian country within the State of Wisconsin. The general permit is proposed to cover discharges within Indian country, including the following areas: Bad River Indian Reservation, Forest County Potawatomi Indian Reservation, Ho-Chunk Nation Indian Reservation, Lac Courte Oreilles Indian Reservation, Lac Du Flambeau Indian Reservation, Menominee Indian Reservation, Oneida Indian Reservation, Red Cliff Indian Reservation, Sokaogon (Mole Lake) Indian Reservation, St. Croix Indian Reservation, and the Stockbridge-Munsee Indian Reservation.

EPA published the proposed general permit in the Federal Register on December 21, 2001 (66 FR 65957-65961). The purpose of this notice is to correct a procedural oversight during the original notice and comment period. A public meeting will be held followed by a public hearing. The date and location is listed below:

Date: April 4, 2002.

Location: Bay Beach Wildlife Sanctuary, 1660 East Shore Drive, Green Bay, WI.

Time: 2 p.m. to 4 p.m. (Public meeting). 6 p.m. to 8 p.m. (Public Hearing).

DATES: Comment period on the proposed permit must be received by April 12, 2002. EPA will accept comments submitted in writing or transmitted electronically.

ADDRESSES: Comments on the draft permit may be sent to: Brian Bell, NPDES Programs Branch (WN-16J), U.S. Environmental Protection Agency, Region 5, 77 West Jackson Boulevard, Chicago, IL 60604. Comments may also be transmitted electronically to bell.brianc@epa.gov.

FOR FURTHER INFORMATION CONTACT: Brian Bell, at the above address or, via telephone at 312-886-0981.

Dated: February 22, 2002.
Thomas Poy,
Acting Director, Water Division, Region 5.

[FR Doc. 02-5602 Filed 3-7-02; 8:45 am]

BILLING CODE 6560-50-P